DEPARTMENT OF LABOR

Employment and Training Administration

[TA-W-51,861]

Rosewood Manufacturing Company, A Division of Blauer Manufacturing Company, Inc., Charleston, MS; Notice of Revised Determination on Reconsideration

By letter of June 25, 2003, a company official requested administrative reconsideration regarding the Department's Negative Determination Regarding Eligibility to Apply for Worker Adjustment Assistance, applicable to the workers of the subject firm.

The initial investigation resulted in a negative determination issued on June 13, 2003, based on the finding that imports of public safety sweaters and jackets did not contribute importantly to worker separations at the subject plant. The denial notice was published in the Federal Register on July 3, 2003 (68 FR 39976).

To support the request for reconsideration, the company supplied additional information to supplement that which was gathered during the initial investigation. Upon further review, it was revealed that sales and production figures provided in the initial investigation combined subject firm sales and production with import data. Subsequently, it was revealed that in fact sales and production declines did occur, and also that company imports increased in the relevant period, contributing to layoffs at the subject firm.

Conclusion

After careful review of the additional facts obtained on reconsideration, I conclude that increased imports of articles like or directly competitive with those produced at Rosewood Manufacturing Company, Inc., A Division of Blauer Company, Inc., Charleston, Mississippi, contributed importantly to the declines in sales or production and to the total or partial separation of workers at the subject firm. In accordance with the provisions of the Act, I make the following certification:

All workers of Rosewood Manufacturing Company, Inc., A Division of Blauer Company, Inc., Charleston, Mississippi, who became totally or partially separated from employment on or after May 16, 2002, through two years from the date of this certification, are eligible to apply for adjustment assistance under Section 223 of the Trade Act of 1974.

Signed in Washington, DC, this 11th day of July, 2003.
Elliott S. Kushner,
Certifying Officer, Division of Trade Adjustment Assistance.

[FR Doc. 03-19859 Filed 8-4-03; 8:45 am]

BILLING CODE 4510-30-P